DEPARTMENT OF TRANSPORTATION

Federal Aviation Administration

14 CFR Part 39

[Docket No. 99-NE-41-AD; Amendment 39-14015; AD 2005-06-07]

RIN 2120-AA64

Airworthiness Directives; General Electric Company (GE) CF6-80A1/A3 and CF6-80C2A Series Turbofan Engines, Installed on Airbus Industrie A300-600 and A310 Series Airplanes; Correction

AGENCY: Federal Aviation Administration, DOT.

ACTION: Final rule; correction

SUMMARY: This document makes a correction to Airworthiness Directive (AD) 2005-06-07. That AD applies to GE CF6-80A1/A3 and CF6-80C2A series turbofan engines. We published AD 2005-06-07 in the Federal Register on March 21, 2005, (70 FR 13365). A service bulletin number in the compliance section is incorrect. This document corrects that service bulletin number. In all other respects, the original document remains the same.

EFFECTIVE DATE: Effective May 5, 2005.

FOR FURTHER INFORMATION CONTACT: Karen Curtis, Aerospace Engineer, Engine Certification Office, FAA, Engine and Propeller Directorate, 12 New England Executive Park, Burlington, MA 01803-5299; telephone (781) 238-7192; fax (781) 238-7199.

SUPPLEMENTARY INFORMATION: A final rule AD, FR Doc. 05-5299, that applies to GE CF6-80A1/A3 and CF6-80C2A series turbofan engines, was published in the Federal Register on March 21, 2005, (70 FR 13365). The following correction is needed:

PART 39—[CORRECTED]

§ 39.13 [Corrected]

On page 13368, in the first column, in compliance section paragraph (i)(2), in the sixth line, “No. CF6-80C2A SB 78A4022, Revision 2,” is corrected to read “No. CF6-80C2A SB 78A1081, Revision 2”.

Issued in Burlington, MA, on April 26, 2005.
Jay J. Pardee,
Manager, Engine and Propeller Directorate, Aircraft Certification Service.

[FR Doc. 05-8883 Filed 5-4-05; 8:45 am]

BILLING CODE 4910-13-P